CONSUMER PRODUCT SAFETY COMMISSION

[CPSC Docket No. CPSC-2022-0020]

CPSC Staff Workshop: PGA Message Set Test (Beta Pilot) of Electronic Filing of Certain Certificate of Compliance Data for Regulated Imported Consumer Products

AGENCY: Consumer Product Safety Commission.

ACTION: Announcement of meeting and request for comments.

SUMMARY: On October 13, 2022, U.S. Consumer Product Safety Commission (CPSC or Commission) staff will hold a workshop to discuss the upcoming test (Beta Pilot Test) of electronic filing (eFiling) of certificate of compliance (certificate) data. The Beta Pilot Test will involve a 6-month test of approximately 30 to 50 participants, who will eFile certificate data for regulated imported consumer products with U.S. Customs and Border Protection (CBP), using the Partner Government Agency (PGA) Message Set, at the time of entry filing or upon entry summary filing if both entry and entry summary are filed together. Staff's Beta Pilot Test workshop will discuss the purpose and mechanics of eFiling certificate data in the Beta Pilot Test and other associated topics described in this notice. We invite interested parties to attend the workshop and thereafter to submit written comments on the Beta Pilot Test.

DATES: The workshop will be held from 9 a.m. to 4 p.m. Eastern Time (ET) on Thursday, October 13, 2022. If you wish to attend the workshop, either in-person at CPSC Headquarters in Bethesda, MD, or virtually, register by Thursday, October 6, 2022. The comment period will open on the date of the workshop, October 13, 2022, and comments must be received by Friday, November 11, 2022.

ADDRESSES: CPSC staff will hold the workshop in the Hearing Room at CPSC's headquarters in Bethesda, Maryland: 4330 East West Highway, 4th Floor, Bethesda, MD 20814. You may attend the workshop free of charge. If interested in attending the workshop, you should register online at: https://www.cpsc.gov/Beta-Pilot-Test-Workshop-on-eFiling-of-Certificate-Data, and specify whether you plan to attend in person or virtually. As more information about the workshop becomes available, staff will post this information at: http://www.cpsc.gov/efiling.

After the workshop, you may submit comments on the topics raised concerning the Beta Pilot Test, identified by Docket No. CPSC-2022-0020, by any of the following methods:

Electronic Submissions: CPSC encourages you to submit electronic comments to the Federal eRulemaking Portal at: https://www.regulations.gov. Follow the instructions for submitting comments. CPSC typically does not accept comments submitted by electronic mail (email), except as described below.

Mail/Hand Delivery/Courier Written Submissions: Submit comments by mail/hand delivery/courier to: Division of the Secretariat, Consumer Product Safety Commission, 4330 East West Highway, Bethesda, MD 20814; telephone: (301) 504-7479. If you wish to submit confidential business information, trade secret information, or other sensitive or protected information that you do not want to be available to the public, you may submit such comments by mail, hand delivery, courier, or you may email them to: cpsc-os@cpsc.gov.

Instructions: All submissions must include the agency name and docket number. CPSC may post all comments without change, including any personal identifiers, contact information, or other personal information provided, to: https://www.regulations.gov. Do not submit through this website confidential business information, trade secret information, or other sensitive or protected information that you do not want to be available to the public. If you wish to submit such information, please submit it according to the instructions for mail/hand delivery/courier/confidential written submissions.

Docket: For access to the docket to read background documents on the Beta Pilot Test or comments received, go to: https://www.regulations.gov, and insert the docket number, CPSC-2022-0020, into the “Search” box, and follow the prompts.

FOR FURTHER INFORMATION CONTACT: Direct questions regarding the workshop to Arthur Laciak, eFiling Program Specialist, Office of Import Surveillance, U.S. Consumer Product Safety Commission, (301) 504-7516, efilingpilot@cpsc.gov. Questions sent by electronic mail should contain the subject heading: “Beta Pilot Workshop Question,” and include a short description of the question.

SUPPLEMENTARY INFORMATION:

I. Beta Pilot Test

On June 10, 2022, the Commission and CBP announced in the Federal Register their joint intent to conduct a Beta Pilot Test via the PGA Message Set to the CBP-authorized electronic data interchange system, known as the Automated Commercial Environment (ACE) (the June 10th Notice).¹ 87 FR 35513. The June 10th Notice asked for Beta Pilot Test participants and comments on CPSC's burden estimates for a proposed collection of information related to the Beta Pilot Test. Id. at 35518-20. The June 10th Notice also provided background on CPSC's eFiling Program and proposed rule to amend 16 CFR part 1110 to require eFiling of certificate data (78 FR 28080 (May 14, 2013), the 2013 NPR).² Id. at 35514-15.

¹ The Commission voted 5-0 to publish this notice.

² In addition to the June 10th Notice, stakeholders can find background on CPSC's eFiling initiative in CPSC's staff's document: CPSC Plan to Create an eFiling Program for Imported Consumer Products (2020 eFiling Plan). CPSC Plan to Create an eFiling Program for Imported Consumer Products, published December 2020. Staff's 2020 eFiling Plan recommended a multiyear, four-phased approach: (1) create and fund an eFiling program, (2) conduct an eFiling Beta Pilot Test, (3) initiate rulemaking, and (4) dedicate ongoing resources.

To summarize, the Beta Pilot Test will assess the electronic filing of data from a certificate for regulated consumer products under CPSC's jurisdiction. Id. The June 10th Notice explains that the purposes of the Beta Pilot Test are to develop and test the IT infrastructure necessary to support a full-scale eFiling requirement, inform CPSC's pending rulemaking, develop internal procedures to support enforcement, and assist CPSC to target imports more accurately by enhancing targeting of noncompliant trade and facilitating the flow of legitimate trade. Id. at 35514.

Compared to a previous CPSC PGA Message Set test in 2016 (the Alpha Pilot), the Beta Pilot Test will include more participants than the Alpha Pilot (up from 8 to 30-50), add two additional data elements, and involve more varied consumer products under CPSC's jurisdiction (products classified under approximately 300 HTS codes).³ Id. at 35515. Beta Pilot Test participants will use the PGA Message Set to file certificate information for regulated consumer products within the 300 HTS codes in CBP's ACE system. The proposed PGA Message Set test will evaluate, at a minimum, the electronic filing of seven certificate data elements:

³ The products classified under the approximately 300 HTS codes that participants should expect to be tested in the Beta Pilot include, but are not limited to: ATVs; durable infant or toddler products, such as baby carriages, cribs, and safety gates; children's furniture, backpacks, and school supplies; bicycle helmets; bicycles and other electric-powered cycles; clothing (sleepwear, outerwear, infant articles, potentially flammable adult clothing articles); drywall; fireworks; children's jewelry; lighters; liquid nicotine; mattresses; pacifiers and rattles; rugs; and toys. CPSC intends to communicate to the Trade the approximately 300 HTS codes that may require filing certificate data during the Beta Pilot Test for their proprietary system programming.

1. Identification of the finished product (may use reference to GTIN ⁴ for this element);

⁴ GTIN stands for Global Trade Item Number and is managed by Global Standards 1 (GS1).

2. Each consumer product safety rule to which the finished product has been certified;

3. Date when the finished product was manufactured, produced, or assembled;

4. Place where the finished product was manufactured, produced, or assembled, including the identity and address of the manufacturing party;

5. Date when the finished product was most recently tested for compliance with the consumer product safety rule cited in data element 2;

6. Parties on whose testing a certificate depends (meaning the name and contact information for the entity that conducted the testing); and

7. A check box indicating that a required certificate currently exists for the finished product, as required by Sections 14 and 17 of the Consumer Product Safety Act.⁵

⁵ 15 U.S.C. 2063(a) & (g); 2066(a)(2).

These seven data elements from a certificate include all of the data elements tested in the Alpha Pilot, as well as two additional date fields, manufacture date and test date, which were not tested in the Alpha Pilot. Staff considers all seven data elements useful to improve the targeting of potentially violative products. CPSC anticipates that, both individually and considered together, these data elements will allow CPSC staff to create a unique set of rules in its Risk Assessment Methodology (RAM) system that can increase or decrease risk scores. Id. at 35516. CPSC is drafting a supplemental Customs and Trade Automated Interface Requirements (CATAIR) guideline on filing certificate data through the PGA Message Set that describes the technical specifications for filing during the Beta Pilot Test, as well as the Product Registry and Reference PGA Message Set. When completed, the supplemental CATAIR guideline will be made available for review and comment on http://www.cbp.gov/trade/ace/catair. Id.

Similar to the Alpha Pilot, each time a product is imported Beta Pilot Test participants will have two ways to file certificate data: (1) filing certificate data in a CPSC-maintained Product Registry, and, through Automated Broker Interface (ABI), a reference number in ACE to identify this data set (Reference PGA Message Set), or (2) filing all certificate data elements directly through ABI (Full PGA Message Set). Id. at 35518. If a participant chooses the Reference PGA Message Set, certificate data can be entered into the Product Registry once, and then imported multiple times using a reference or identifying number. If a participant uses the Full PGA Message Set, certificate data must be entered for each product every time the product is imported. Based on the Alpha Pilot experience, for repeat importers, using the Product Registry should minimize data entry; reduce costs and filing time; and allow firms to manage, update, and re-use certificate data in the registry. Id. at 35516-17. CPSC will receive the information from CBP through a real-time transfer of import data, and risk score the information in CPSC's RAM system, to assist in the interdiction of noncompliant consumer products.

The eFiling portion of the Beta Pilot Test is expected to begin in October 2023, but starting in fall 2022, participants will begin planning for participation, including data requirement discussions with CPSC and IT development. When the test begins, Beta Pilot Test participants will spend the first several weeks of the Pilot onboarding. Once onboarding is complete for all test participants, the Beta Pilot Test is expected to run for at least 6 months and will run until terminated by announcement in the Federal Register.⁶ Id. at 35517.

⁶ The duration of the Beta Pilot Test could be shorter than the 1 year approved in the 2020 eFiling Plan. Staff determined that a duration of 6 months may be sufficient to complete anticipated test metrics. Accordingly, the Beta Pilot Test will run for at least 6 months until the test is completed via a Federal Register notice of termination.

II. Beta Pilot Test Workshop

The goal of the workshop is for CPSC staff to provide an update to stakeholders on CPSC's eFiling Program, and plans for a Beta Pilot Test, and for stakeholders to provide CPSC staff with relevant feedback . Anticipated workshop topics include:

• CPSC's Enforcement at the Ports

CPSC and CBP Collaboration Overview

CPSC Targeting of Imported Products

• CPSC's Certificate Requirements

Statutory and Regulatory Requirements

Enforcement Efforts

Certificate Study

• Overview of CPSC eFiling Program

Improved Enforcement/Facilitation of Legitimate Trade—Alpha Pilot

Beta Pilot Test Requirements

• CPSC Procedures

○ CPSC's Product Registry

• CBP Procedures

○ CPSC's draft CATAIR

CPSC's RAM and Use of Risk Scores for Enforcement

• Third Party Involvement in Certificate and eFiling Requirements

Role of brokers in meeting CPSC's PGA Message Set requirement

Role of laboratories in meeting CPSC's certificate requirement

• Import Issues for eFiling

eCommerce

De minimis shipments

Direct to consumer shipments

International Mail Facilities

Foreign Trade Zones

Filing deadlines for different modes of transport

The Beta Pilot Test workshop will be devoted solely to the Beta Pilot Test. Additional comments and questions on the 2013 NPR or other rulemaking can be raised at the appropriate time during the rulemaking proceeding. Also, the Commission may hold additional workshops on eFiling at a future date.

III. Details Regarding the Workshop

A. When and where will the workshop be held?

CPSC staff will hold the workshop from 9 a.m. to 4 p.m. Eastern Time on October 13, 2022, in the Hearing Room, 4th Floor, at CPSC's headquarters: 4330 East West Highway, Bethesda, MD 20814. The workshop will also be available through video conferencing. To participate virtually, attendees should register for the workshop and select “virtual attendance.” You will then receive a link to participate in the workshop virtually via email.

B. How do you register for the workshop?

If you would like to attend the workshop, either in person or virtually, we ask that you register by October 6, 2022. (See the ADDRESSES portion of this document for the website link and instructions on where to register.) Seating will be on a first-come, first-served basis. The workshop will also be available through video conferencing and viewers will be able to interact with the panelists and presenters via the video conferencing software.

If you need special accommodations because of a disability, please contact Mr. Arthur Laciak, efilingpilot@cpsc.gov, 301-504-7516, at least 10 days before the workshop. In addition, we encourage written or electronic comments following the workshop. Written or electronic comments will be accepted from the workshop date, October 13, 2022, until November 11, 2022. Comments should be restricted to topics covered by the workshop as described in this Announcement.

Alberta E. Mills,
Secretary, U.S. Consumer Product Safety Commission.

[FR Doc. 2022-16902 Filed 8-5-22; 8:45 am]

BILLING CODE 6355-01-P